DEPARTMENT OF ENERGY

Federal Energy Regulatory Commission

Notice of Application To Amend License, Draft Environmental Assessment and Soliciting Comments, Motions To Intervene, and Protests

August 31, 2000.

Take notice that the following hydroelectric application and draft environmental assessment has been filed with the Commission and is available for public inspection:

a. Type of Application: Amendment of Licenses.

b. Project Nos: 935-037, 2071-105, and 2111-011.

c. Date Filed: July 6 and August 17, 2000.

d. Applicant: PacifiCorp.

e. Name of Projects: Merwin, Yale, and Swift No. 1 Projects.

f. Location: On the North Fork Lewis River, in Cowlitz, Clark, and Skamania Counties, Washington. No federal lands are involved in this application.

g. Filed Pursuant to: Federal Power Act, 16 U.S.C. 791(a)-825(r).

h. Applicant Contact: Frank Shrier, PacifiCorp, 825 NE Multnomah, 1500 LTC, Portland, OR 97232, (503) 813-6622.

i. FERC Contact: Any questions on this notice should be addressed to Jim Hastreiter at (503) 944-6760 or by email at james.hastreiter@ferc.fed.us.

j. Deadline for filing comments and/or motions: 45 days from the issuance date of this notice.

All documents (original and eight copies) should be filed wit: David P. Boergers, Secretary, Federal Energy Regulatory Commission, 888 First Street, NE, Washington, DC 20426.

Please include the project numbers (935-037, 2071-015, and 2111-011 on any comments or motions filed.

k. Description of Filing: PacifiCorp proposes to amend certain license articles to incorporate conservation measures that are intended to avoid and minimize effects as a result of project operations on species listed under the Endangered Species Act. These measures include: (1) Assist with the acquisition of Eagle Island and the conveyance of that land to the State of Washington; (2) purchase lands in the Cougar Creek area and place conservation easements on the Courgar Creek and Panamaker Creek riparian corridors; (3) purchase lands in the Swift Creek area known as Devil's Backbone and create a conservation easement within the Swift Creek parcel; (4) limit downramping at the Merwin Project (5) develop an engineering design study to modify the Yale Project spillway; and (6) continue net and haul activities for adult bull trout in the Yale Project tailrace and fund and implement the activities in the Bull Trout Plan.

PacifiCorp provided a draft environmental assessment of the proposed amendment application with its filing. Commission staff is adopting the draft environmental assessment as its own. Any comments received on this draft environmental assessment will be addressed by Commission staff, and incorporated into the final environmental assessment of the proposed amendment application.

l. Location of the Application and draft environmental assessment: A copy of the application and draft environmental assessment is available for inspection and reproduction at the Commission's Public Reference Room, located at 888 First Street, N.E., Room 2A, Washington, D.C. 20426, or by calling (202) 208-1371. This filing may be viewed on http://www.ferc.fed.us/online/rims.htm. (Call (202) 208-2222 for assistance). A copy is also available for inspection and reproduction at the address in item h above.

m. Individuals desiring to be included on the Commissions mailing list should so indicate by writing to the Secretary of the Commission.

Comments, Protests, or Motions to Intervene—Anyone may submit comments, a protest, or a motion to intervene in accordance with the requirements of Rules of Practice and Procedure, 18 CFR 385.210, 211, 214. In determining the appropriate action to take, the Commission will consider all protests or other comments filed, but only those who file a motion to intervene in accordance with the Commissions's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number(s) of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state and local agencies are invited to file comments on the described application and draft environmental assessment. A copy of the application and draft environmental assessment may be obtained by agencies directly from the Applicant. If an agency does not file comments within the time specified for filing comments, it will be presumed to have no comments. One copy of an agency's comments must also be sent to the Applicant's representatives.

Linwood A. Watson, Jr.,
Acting Secretary.

[FR Doc. 00-22942 Filed 9-6-00; 8:45 am]

BILLING CODE 6717-01-M